DEPARTMENT OF COMMERCE

International Trade Administration

[A-570-979, C-570-980]

Crystalline Silicon Photovoltaic Cells, Whether or Not Assembled Into Modules, From the People's Republic of China: Preliminary Results of Changed Circumstances Reviews, and Intent To Revoke the Antidumping and Countervailing Duty Orders, in Part

AGENCY: Enforcement and Compliance, International Trade Administration, Department of Commerce.

SUMMARY: The Department of Commerce (Commerce) intends to revoke, in part, the antidumping duty (AD) and countervailing duty (CVD) orders on crystalline silicon photovoltaic cells, whether or not assembled into modules (solar cells), from the People's Republic of China (China) with respect certain off-grid small portable CSPV panels. Interested parties are invited to comment on these preliminary results.

DATES: Applicable June 28, 2021.

FOR FURTHER INFORMATION CONTACT: Thomas Hanna, AD/CVD Operations, Office IV, Enforcement and Compliance, International Trade Administration, U.S. Department of Commerce, 1401 Constitution Avenue NW, Washington, DC 20230; telephone: (202) 482-0835.

SUPPLEMENTARY INFORMATION:

Background

On December 7, 2012, Commerce published the AD and CVD orders on solar cells from China.¹ On December 4, 2020, SOURCE Global, PBC (SOURCE Global), a U.S. importer of subject merchandise, requested, through changed circumstance reviews (CCRs), revocation of the Solar Cells Orders with respect to certain off-grid small portable CSPV panels, pursuant to section 751(b)(1) of the Tariff Act of 1930, as amended (the Act), and 19 CFR 351.216(b).²

¹ See Crystalline Silicon Photovoltaic Cells, Whether or Not Assembled Into Modules, from the People's Republic of China: Amended Final Determination of Sales at Less Than Fair Value, and Antidumping Duty Order, 77 FR 73018 (December 7, 2012); see also Crystalline Silicon Photovoltaic Cells, Whether or Not Assembled Into Modules, from the People's Republic of China: Countervailing Duty Order, 77 FR 73017 (December 7, 2012) (collectively, Solar Cells Orders).

² See SOURCE Global's Letter, “Crystalline Silicon Photovoltaic Cells, Whether or Not Assembled into Modules from the People's Republic of China; Request for Changed Circumstances Review on Certain Off-Grid Portable Small Panels and Consumer Products Containing Such Panels,” dated December 4, 2020.

On March 15, 2021, we initiated the requested CCRs.³ In the Initiation Notice, we invited interested parties to provide comments and/or factual information regarding these CCRs, including comments on industry support and the proposed partial revocation language. We received no comments or factual information.

³ See Crystalline Silicon Photovoltaic Cells, Whether or Not Assembled Into Modules, from the People's Republic of China: Notice of Initiation of Changed Circumstances Reviews, and Consideration of Revocation of the Antidumping and Countervailing Duty Orders in Part, 86 FR 16585 (March 30, 2021) (Initiation Notice).

Scope of the Solar Cells Orders

The merchandise covered by these orders is crystalline silicon photovoltaic cells, and modules, laminates, and panels, consisting of crystalline silicon photovoltaic cells, whether or not partially or fully assembled into other products, including, but not limited to, modules, laminates, panels and building integrated materials.

These orders cover crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of these orders.

Excluded from the scope of these orders are thin film photovoltaic products produced from amorphous silicon (a-Si), cadmium telluride (CdTe), or copper indium gallium selenide (CIGS).

Also excluded from the scope of these orders are crystalline silicon photovoltaic cells, not exceeding 10,000 mm² in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of the orders are panels with surface area from 3,450 mm² to 33,782 mm² with one black wire and one red wire (each of type 22 AWG or 24 AWG not more than 206 mm in length when measured from panel extrusion), and not exceeding 2.9 volts, 1.1 amps, and 3.19 watts. For the purposes of this exclusion, no panel shall contain an internal battery or external computer peripheral ports.

Also excluded from the scope of the orders are:

1. Off grid CSPV panels in rigid form with a glass cover, with the following characteristics:

(A) A total power output of 100 watts or less per panel;

(B) a maximum surface area of 8,000 cm² per panel;

(C) do not include a built-in inverter;

(D) must include a permanently connected wire that terminates in either an 8 mm male barrel connector, or a two-port rectangular connector with two pins in square housings of different colors;

(E) must include visible parallel grid collector metallic wire lines every 1-4 millimeters across each solar cell; and

(F) must be in individual retail packaging (for purposes of this provision, retail packaging typically includes graphics, the product name, its description and/or features, and foam for transport); and

2. Off grid CSPV panels without a glass cover, with the following characteristics:

(A) A total power output of 100 watts or less per panel;

(B) a maximum surface area of 8,000 cm2 per panel;

(C) do not include a built-in inverter;

(D) must include visible parallel grid collector metallic wire lines every 1-4 millimeters across each solar cell; and

(E) each panel is

1. permanently integrated into a consumer good;

2. encased in a laminated material without stitching, or

3. has all of the following characteristics: (i) The panel is encased in sewn fabric with visible stitching, (ii) includes a mesh zippered storage pocket, and (iii) includes a permanently attached wire that terminates in a female USB-A connector.

Modules, laminates, and panels produced in a third-country from cells produced in China are covered by the orders; however, modules, laminates, and panels produced in China from cells produced in a third-country are not covered by these orders.

Merchandise covered by these orders is currently classified in the Harmonized Tariff System of the United States (HTSUS) under subheadings 8501.61.0000, 8507.20.80, 8541.40.6020, 8541.40.6030, and 8501.31.8000. These HTSUS subheadings are provided for convenience and customs purposes; the written description of the scope of these orders is dispositive.⁴

⁴ See Solar Cells Orders.

Preliminary Results of Changed Circumstances Reviews and Intent To Revoke the Solar Cells Orders, in Part

Pursuant to section 751(d)(1) of the Act, and 19 CFR 351.222(g), Commerce may revoke an order, in whole or in part, based on a review under section 751(b) of the Act (i.e., a CCR). Section 782(h)(2) of the Act gives Commerce the authority to revoke an order if producers accounting for substantially all of the production of the domestic like product have expressed a lack of interest in the order. Section 351.222(g) of Commerce's regulations provides that Commerce will conduct a CCR under 19 CFR 351.216, and may revoke an order (in whole or in part), if it concludes that: (i) Producers accounting for substantially all of the production of the domestic like product to which the order pertains have expressed a lack of interest in the relief provided by the order, in whole or in part; or (ii) if other changed circumstances sufficient to warrant revocation exist. Thus, both the Act and Commerce's regulations require that “substantially all” domestic producers express a lack of interest in the order for Commerce to revoke the order, in whole or in part.⁵ Commerce has interpreted “substantially all” to mean producers accounting for at least 85 percent of the total U.S. production of the domestic like product covered by the order.⁶

⁵ See section 782(h) of the Act and 19 CFR 351.222(g).

⁶ See Honey from Argentina; Antidumping and Countervailing Duty Changed Circumstances Reviews; Preliminary Intent to Revoke Antidumping and Countervailing Duty Orders, 77 FR 67790, 67791 (November 14, 2012) (Honey Preliminary CCR Results), unchanged in Honey from Argentina; Final Results of Antidumping and Countervailing Duty Changed Circumstances Reviews; Revocation of Antidumping and Countervailing Duty Orders, 77 FR 77029 (December 31, 2012).

SOURCE Global submitted letters from SunPower Manufacturing Oregon, LLC (SPMOR), a U.S. producer of the domestic like product and a petitioner in the underlying investigations, indicating that it does not object to the scope modification proposed by SOURCE Global which would exclude certain off-grid small portable CSPV panels from the Solar Cells Orders.⁷ In those letters, SPMOR did not indicate its share of production of the domestic like product.⁸ Thus, Commerce did not determine, at the time that it initiated these CCRs, whether producers accounting for substantially all of the U.S. production of the domestic like product lacked interest in the Solar Cells Orders with respect to the off-grid small portable CSPV panels under consideration here. Hence, in the Initiation Notice, Commerce invited interested parties to provide comments and/or factual information regarding these CCRs, including comments on industry support and the proposed partial revocation language. No party submitted comments.

⁷ See SOURCE Global's Letters, “Crystalline Silicon Photovoltaic Cells, Whether or Not Assembled into Modules from the People's Republic of China; Changed Circumstances Review on Certain Off-Grid Portable Small Panels and Consumer Products Containing Such Panels; SOURCE Global, PBC Response to Department of Commerce Information Request,” dated January 29, 2021; and “Crystalline Silicon Photovoltaic Cells, Whether or Not Assembled into Modules from the People's Republic of China; SOURCE Global, PBC Changed Circumstances Review Request; SOURCE Global, PBC Submission of Edited Product Exclusion Language,” dated March 10, 2021 at Exhibit 2.

⁸ See Initiation Notice.

In light of SPMOR's lack of interest in maintaining the Solar Cells Orders with respect to the off-grid small portable CSPV panels described by SOURCE Global, and in the absence of any interested party comments, we preliminarily conclude that producers accounting for substantially all of the production of the domestic like product to which the Solar Cells Orders pertain lack interest in the relief provided by the Solar Cells Orders with respect to the off-grid small portable CSPV panels that are the subject of SOURCE Global's CCR request. Thus, we preliminarily determine that changed circumstances warrant revocation of the Solar Cells Orders, in part, with respect to such panels.

Accordingly, we are notifying the public of our intent to revoke the Solar Cells Orders, in part, with respect to the following off-grid small portable CSPV panels:

Off-grid CSPV panels in rigid form with a glass cover, with each of the following physical characteristics, whether or not assembled into a fully completed off-grid hydropanel whose function is conversion of water vapor into liquid water:

(A) A total power output of no more than 80 watts per panel;

(B) A surface area of less than 5,000 square centimeters (cm²) per panel;

(C) Do not include a built-in inverter;

(D) Do not have a frame around the edges of the panel;

(E) Include a clear glass back panel; and

(F) Must include a permanently connected wire that terminates in a two-port rectangular connector.

We will consider comments from interested parties on these preliminary results before issuing the final results of these CCRs.⁹

⁹ See, e.g., Honey Preliminary CCR Results, 77 FR 67790, 67791 (November 14, 2012); Aluminum Extrusions from the People's Republic of China: Preliminary Results of Changed Circumstances Reviews, and Intent to Revoke Antidumping and Countervailing Duty Orders in Part, 78 FR 66895 (November 7, 2013); and 19 CFR 351.222(g)(3)(v).

Public Comment

Interested parties are invited to comment on these preliminary results of CCRs in accordance with 19 CFR 351.309(c)(1)(ii). Written comments may be submitted no later than 14 days after the date of publication of these preliminary results in the Federal Register. Rebuttals to written comments, limited to issues raised in such comments, may be filed no later than seven days after the due date for comments. All submissions must be filed electronically using Enforcement and Compliance's AD and CVD Centralized Electronic Service System (ACCESS).¹⁰ An electronically filed document must be successfully received in its entirety by ACCESS, by 5 p.m. Eastern Time on the deadlines set forth in this notice. Note that Commerce has temporarily modified certain of its requirements for serving documents containing business proprietary information, until further notice.¹¹

¹⁰ See generally 19 CFR 351.303.

¹¹ See Temporary Rule Modifying AD/CVD Service Requirements Due to COVID-19; Extension of Effective Period, 85 FR 29615 (May 18, 2020); and Temporary Rule Modifying AD/CVD Service Requirements Due to COVID-19; Extension of Effective Period, 85 FR 41363 (July 10, 2020).

Final Results of the Changed Circumstances Reviews

Commerce will issue the final results of these CCRs, which will include its analysis of any written comments, no later than 270 days after the date on which these reviews were initiated.¹² If, in the final results of these reviews, Commerce continues to determine that changed circumstances warrant the revocation of the Solar Cells Orders, in part, we will instruct U.S. Customs and Border Protection (CBP) to liquidate without regard to antidumping or countervailing duties, and to refund any estimated antidumping and countervailing duties deposited on, all unliquidated entries of the merchandise covered by the revocation that are not covered by the final results of an administrative review or an automatic liquidation instruction to CBP.

¹² See 19 CFR 351.216(e).

The current requirement for cash deposits of estimated antidumping and countervailing duties on all entries of subject merchandise will continue unless they are modified pursuant to the final results of these CCRs.

Notification to Interested Parties

These preliminary results of CCRs and this notice are published in accordance with sections 751(b) and 777(i) of the Act and 19 CFR 351.216, 19 CFR 351.221(c)(3), and 19 CFR 351.222.

Dated: June 22, 2021.
James Maeder,
Deputy Assistant Secretary for Antidumping and Countervailing Duty Operations.

[FR Doc. 2021-13731 Filed 6-25-21; 8:45 am]

BILLING CODE 3510-DS-P